DEPARTMENT OF TRANSPORTATION

Federal Aviation Administration

[Policy Statement No. ANE-1993-33.28TLD-R1]

Policy for Time Limited Dispatch (TLD) of Engines Fitted With Full Authority Digital Engine Control (FADEC) Systems

AGENCY: Federal Aviation Administration, DOT.

ACTION: Notice of availability; policy statement.

SUMMARY: The Federal Aviation Administration (FAA) announces the availability of policy for the time limited dispatch (TLD) of engines fitted with full authority digital engine control (FADEC) systems. The FAA has revised its current policy to clarify it; the basic intent of the policy has not changed.

DATES: The FAA issued policy statement number ANE-1993-33.28TLD-R1 on June 29, 2001.

FOR FURTHER INFORMATION CONTACT: Gary Horan, FAA, Engine and Propeller Standards Staff, ANE-110, 12 New England Executive Park, Burlington, MA 01803; e-mail: gary.horan@faa.gov; telephone: (781) 238-7164; fax: (781) 238-7199. The policy statement is available on the Internet at the following address: http://www.faa.gov/avr/air/ane/ane110/hpage.htm. If you do not have access to the Internet, you may request a copy of the policy by contacting the individual listed in this section.

SUPPLEMENTARY INFORMATION: The FAA published in the Federal Register on January 10, 2001 (66 FR 2043) to announce the availability of the proposed policy and invite interested parties to comment.

Background

The FAA Engine and Propeller Directorate (EPD) issued the original policy on time limited dispatch (TLD) on October 28, 1993. The purpose of that policy is to assure uniformity in applying TLD to engines fitted with FADEC systems. In this revision, the FAA recommends that an applicant for engine type design approval include appropriate TLD information in the engine installation manual. This revised policy does not create any new requirements.

(Authority: 49 U.S.C. 106(g), 40113, 44701-44702, 44704.)
Issued in Burlington, Massachusetts, on August 16, 2001.
Jay J. Pardee,
Manager, Engine and Propeller Directorate, Aircraft Certification Service.

[FR Doc. 01-21301 Filed 8-22-01; 8:45 am]

BILLING CODE 4910-13-M